FEDERAL COMMUNICATIONS COMMISSION

47 CFR Part 25

[GN Docket Nos. 18-122, 17-183; FCC 18-91]

Expanding Flexible Use of the 3.7 to 4.2 GHz Band

AGENCY: Federal Communications Commission.

ACTION: Final action; announcement of deadline date.

SUMMARY: In this document, the International Bureau, the Wireless Telecommunications Bureau, and the Office of Engineering and Technology announce the deadline and other details for filing the certifications and information required by the Commission's, Order and Notice of Proposed Rulemaking (Order), FCC 18-91. This document is consistent with the Order, which stated that the Commission would publish a document in the Federal Register announcing the deadline and other details for filing the certifications and information required by the Order.

DATES: The deadline date for submission of information is May 28, 2019.

FOR FURTHER INFORMATION CONTACT: Cathy Williams by email at Cathy.Williams@fcc.gov and telephone at (202) 418-2918.

SUPPLEMENTARY INFORMATION: This document announces the deadline and other details for filing the certifications and information required by the Order, FCC 18-91,¹ published at 83 FR 42043, August 20, 2018.

¹ Filers may seek confidential treatment for information they submit, pursuant to 47 CFR 0.459.

On July 13, 2018, the Commission released an Order that contained information collection requirements for earth station and satellite licensees regarding their current use of the 3.7-4.2 GHz band.² The Commission and the public will use the information collected to evaluate future use of the band.³ On January 28, 2019, the Office of Management and Budget approved these information collection requirements in accordance with the Paperwork Reduction Act.⁴ In this document (Public Notice), the International Bureau, the Wireless Telecommunications Bureau, and the Office of Engineering and Technology announce the deadline and other details for filing the certifications and information required by the Order.⁵

² Expanding Flexible Use of the 3.7 to 4.2 GHz Band, Order and Notice of Proposed Rulemaking, 33 FCC Rcd 6915, 6923-25, paras. 16-25 (2018) (Order or Notice, as applicable).

³ See, e.g., Order, 33 FCC Rcd 6923, para. 17.

⁴ Notice of Office of Management and Budget Action, ICR Ref. No. 201811-3060-018 (Jan. 28, 2019), available at https://www.reginfo.gov/public/do/PRAViewICR?ref_nbr=201811-3060-018; Federal Communications Commission, Expanding Flexible Use of the 3.7 to 4.2 GHz Band, 84 FR 13141, Apr. 4, 2019.

⁵ Filers may seek confidential treatment for information they submit, pursuant to 47 CFR 0.459.

Required Earth Station Filings

Earth-station certifications. Operators of fixed-satellite service (FSS) earth stations in the 3.7-4.2 GHz band that are licensed or registered (authorized) in the International Bureau Filing System (IBFS), including temporary-fixed or transportable earth stations,⁶ must certify the accuracy of all information reflected on their licenses or registrations in IBFS. The certification must include the relevant call sign(s), file numbers, and applicant or registrant name, along with the following signed statement: “The undersigned, individually and for the applicant, licensee, or registrant, hereby certifies that all information reflected in his or her licenses or registrations in IBFS, including any attached exhibits, are true, complete and correct to the best of his or her knowledge and belief, and have been made in good faith.” The certification must be signed by an authorized representative for the licensee or registrant.

⁶ A temporary-fixed or transportable earth station is a fixed earth station that remains at a location for less than six months. See 47 CFR 25.277. These stations operate on a temporary basis and are variable in nature. A satellite news gathering truck is a common example of a temporary-fixed or transportable earth station.

Earth station operators that filed for new or modified licenses or registrations between April 19, 2018 and October 31, 2018, using the processes outlined in the Earth Station Filing Window Public Notices,⁷ are exempt from this certification requirement.⁸

⁷ Temporary Freeze on Applications for New or Modified Fixed Satellite Service Earth Stations and Fixed Microwave Stations in the 3.7-4.2 GHz Band; 90-Day Window to File Applications for Earth Stations Currently Operating in 3.7-4.2 GHz Band, Public Notice, 31 FCC Rcd 3841 (IB/PSHSB/WTB Apr. 19, 2018); International Bureau Announces 90-Day Extension of Filing Window, to October 17, 2018, to File Applications for Earth Stations Currently Operating in 3.7-4.2 GHz Band, Filing Options for Operators with Multiple Earth Station Antennas, Public Notice, 31 FCC Rcd 6115 (IB June 21, 2018); International Bureau Announces Two-Week Extension of Filing Window for Earth Stations Currently Operating in 3.7-4.2 GHz Band, Public Notice, DA 18-1061 (IB Oct. 17, 2018).

⁸ See Order, 33 FCC Rcd 6923, para. 19.

Temporary fixed or transportable earth stations. Operators of temporary-fixed or transportable FSS earth stations in the 3.7-4.2 GHz band that are licensed or registered (authorized) in IBFS must also provide the following information regardless of when they were licensed or registered:

• Earth station call sign (or IBFS file number if a registration filed between April 19, 2018, and October 31, 2018, is pending);

• Address where the equipment is typically stored;

• The area within which the equipment is typically used;

• How often the equipment is used and the duration of such use (i.e., please provide examples of typical deployments, e.g., operation x days a week at sports arenas within a radius of y miles of its home base);

• Number of transponders typically used in the 3.7-4.2 GHz band and extent of use on both the uplink and downlink; and

• Licensee/registrant and point of contact information.⁹

⁹ See Order, 33 FCC Rcd 6923-24, paras. 19-21.

All earth station operators, including those exempt from the requirements of this Public Notice, are required to update their information in IBFS in the event of a change in contact information or any of the operational parameters.¹⁰

¹⁰ See Sections 25.117 (Modifications of station license), 25.118 (Modification not requiring prior authorization), and 25.171 (Contact information reporting requirements).

Required Space Station Data

Operators with existing FSS space station licenses with coverage of the United States or grants of United States market access in the 3.7-4.2 GHz band must provide the following information:

• Satellite call sign, name, and orbital location;

• Expected end-of-life for satellite;

• The approximate dates that any additional C-band (3.7-4.2 GHz band) satellites with a currently pending application in IBFS are planned for launch to serve the United States market (note whether this satellite is a replacement);

• Any additional C-band satellites that do not have a currently pending application in IBFS that are planned for launch to serve the United States market and the approximate date of such launch (note whether this satellite is a replacement);

• For each transponder on each satellite operating in the 3.7-4.2 GHz range that is operational and legally authorized to serve customers in the United States, provide the following for the most recent month, i.e., for March 2019:

• The frequency range of the transponder and the transponder number; ¹¹

¹¹ For purposes of this information collection, “transponder number” refers to a standard 36 megahertz wide transponder and that transponder numbering (1-24) is based on the former center-frequency requirement for C-band space stations. See 47 CFR 25.211(a) (2014). Although this rule is no longer in effect, most satellites providing service to the United States in the 3.7-4.2 GHz band are configured in accordance with the transponder plan described in the rule.

• The total capacity (megahertz) and in terms of the number of megahertz on each transponder that are currently under contract (also provide this data for one month in 2016);

• For each day in March 2019, the average percentage of each transponder's capacity (megahertz) utilized and the maximum percentage of capacity utilized on that day. Parties may supplement this required daily data for March 2019 with historical trend data over recent months up to three years (provide the date range at which the data was collected) to show utilization variances; and

• For all data reported regarding capacity under contract and capacity utilization, specify the percentage (if any) only for customers outside of the United States.

• The center frequency and bandwidth of the Telemetry Tracking and Command (TT&C) beam(s); and

• The call sign and geographic location (using NAD83 coordinates) of each TT&C receive site.

Filing Procedures

All information required by the Order, and repeated in the Public Notice, must be submitted electronically in IBFS, https://licensing.fcc.gov/myibfs, using the “Pleadings and Comments” link. Fixed, temporary fixed, and transportable earth station licensees must file certifications as a pleading type “C-band certification” for each call sign. Temporary fixed and transportable earth station licensees and space station licensees must file the additional earth station and space station data requested above using the pleading type “Other” for each call sign.

Paperwork Reduction Act Notice

We have estimated that your response to this collection of information will take 6 hours per response (additional information on temporary fixed earth stations in 3.7-4.2 GHz) and 40 hours per response (additional information on space stations in 3.7-4.2 GHz).¹² Our estimate includes the time to read the instructions, look through existing records, gather and maintain required data, and actually complete and review the form or response. If you have any comments on this estimate, or on how we can improve the collection and reduce the burden it causes you, please write the Federal Communications Commission, Office of Managing Director, AMD PERM, Washington, DC 20554, Paperwork Reduction Act Project (3060 0678). We will also accept your PRA comments via the internet if you send an email to PRA@fcc.gov. Please DO NOT SEND COMPLETED CERTIFICATIONS OR DATA TO THIS ADDRESS.

¹² The earth station certification requirement is not considered information for purposes of the Paperwork Reduction Act and as such is not included in the estimated burden hours. See 5 CFR 1320.3(h)(1).

You are not required to respond to a collection of information sponsored by the Federal government, and the government may not conduct or sponsor this collection, unless it displays a currently valid OMB control number and/or we fail to provide you with this document. This collection has been assigned an OMB control number of 3060-0678.

This document is required by the Paperwork Reduction Act of 1995, Public Law 104-13, October 1, 1995, 44 U.S.C. 3507.

Federal Communications Commission.
Marlene Dortch,
Secretary.

[FR Doc. 2019-10412 Filed 5-17-19; 8:45 am]

BILLING CODE 6712-01-P